DEPARTMENT OF ENERGY

Federal Energy Regulatory Commission

Combined Notice of Filings #2

Take notice that the Commission received the following Complaints and Compliance filings in EL Dockets:

Docket Numbers: EL23-53-001; EL23-54-001; EL23-55-001; EL23-56-001; EL23-57-003; EL23-58-001; EL23-59-001; EL23-60-001; EL23-61-001; EL23-63-001; EL23-66-001; EL23-67-001; EL23-74-001; EL23-75-001; EL23-77-001.

Applicants: Parkway Generation Operating LLC and Parkway Generation Sewaren Urban Renewal Entity LLC v. PJM Interconnection, L.L.C., CPV Maryland, LLC and Competitive Power Ventures Holdings, LP v. PJM Interconnection, L.L.C., East Kentucky Power Cooperative, Inc. v. PJM Interconnection, L.L.C., Invenergy Nelson LLC, Invenergy Nelson LLC v. PJM Interconnection, L.L.C., Calpine Corporation v. PJM Interconnection, L.L.C., Energy Harbor LLC v. PJM Interconnection, L.L.C., Old Dominion Electric Cooperative v. PJM Interconnection, L.L.C., Parkway Generation Keys Energy Center LLC v. PJM Interconnection, L.L.C., Lincoln Generating Facility, LLC v. PJM Interconnection, L.L.C., SunEnergy1, LLC v. PJM Interconnection, L.L.C., Lee County Generating Station, LLC v. PJM Interconnection, L.L.C., Talen Energy Marketing, LLC v. PJM Interconnection, L.L.C., Coalition of PJM Capacity Resources v. PJM Interconnection, L.L.C., Aurora Generation, LLC, et al. v. PJM Interconnection, L.L.C., Essential Power OPP, LLC, et al v. PJM Interconnection, L.L.C.

Description: Joint Motion of PJM Interconnection, L.L.C. et al. for Waiver of Tariff Provisions, Expedited Consideration, and Shortened Comment Period.

Filed Date: 9/8/23.

Accession Number: 20230908-5186.

Comment Date: 5 p.m. ET 9/15/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5 p.m. eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: September 11, 2023.
Debbie-Anne A. Reese,
Deputy Secretary.

[FR Doc. 2023-19990 Filed 9-14-23; 8:45 am]

BILLING CODE 6717-01-P